FEDERAL TRADE COMMISSION

Granting of Request for Early Termination of the Waiting Period Under the Premerger Notification Rules

Section 7A of the Clayton Act, 15 U.S.C. 18a, as added by title II of the Hart-Scott-Rodino Antitrust Improvements Act of 1976, requires persons contemplating certain mergers or acquisitions to give the Federal Trade Commission and the Assistant Attorney General advance notice and to wait designated periods before consummation of such plans. Section 7A(b)(2) of the Act permit the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—12/27/2005
20060278 | Valeant Pharmaceutical International | InterMune, Inc | InterMune, Inc.
20060380 | Fortis SA/NV | The William F. O'Connor Foundation | O'Connor & Company L.L.C.
20060381 | Fortis N.V | The William F. O'Connor Foundation | O'Connor & Company L.L.C.
TRANSACTIONS GRANTED EARLY TERMINATION—12/30/2005
20060281 | Cisco Systems, Inc | Scientific-Atlanta, Inc | Scientific-Atlanta, Inc.
20060364 | Apollo Investment Fund V, L.P | Linens 'n Things, Inc | Linens 'n Things, Inc.
20060368 | Thunder FZE | Peninsular & Oriental Steam Navigation Company | Peninsular & Oriental Steam Navigation Company.
20060367 | Kenneth R. Thomson | Quantitative Analytics Inc | Quantitative Analytics Inc.
TRANSACTIONS GRANTED EARLY TERMINATION—1/03/2006
20060265 | CCG Investments BVI, L.P | Geac Computer Corporation Limited | Geac Computer Corporation Limited.
20060334 | CCG Investments BVI, L.P | InTriCage Holdco S.a.r.l | InTriCage Holdco S.a.r.l.
20060389 | Nokia Corporation | Intellisync Corporation | Intellisync Corporation.
20060391 | Gannett Co., Inc | Mr. Fred Eychaner | Channel 20 TV Company.
20060394 | Electronic Arts Inc | JAMDAT Mobile, Inc | JAMDAT Mobile, Inc.
20060398 | Wachovia Corporation | Ernest S. Rady | Western Consumer Products.
|  |  | Westran Services Corp.
|  |  | WFS Receivables Corporation 2.
|  |  | WFS Receivables Corporation 4.
20060399 | Ernest S. Rady | Wachovia Corporation | Wachovia Corporation.
20060400 | ALLTEL Holding Corp | Valor Communications Group, Inc | Valor Communications Group, Inc.
20060407 | General Electric Group | Belk, Inc | Belk, Inc.
20060408 | Avista Capital Partners, LP | Oak Hill Capital Partners, L.P | WideOpen West Cleveland, Inc.
|  |  | WideOpen West Illinois, Inc.
|  |  | WideOpen West Networks, Inc.
|  |  | WideOpen West Ohio, Inc.
20060416 | Lafarge, S.A | Rein, Schultz & Dahl of Illinois, Inc | Rein, Schultz & Dahl of Illinois, Inc.
20060419 | Sprint Nextel Corporation | Don E. Bond | Enterprise Communications Partnership.
20060420 | Sprint Nextel Corporation | W. Mansfield Jennings, Jr. and Genelle Jennings | Enterprise Communications Partnership.
TRANSACTIONS GRANTED EARLY TERMINATION—01/04/2006
20060392 | Brady Corporation | SKM Equity Fund III, L.P | AIO Holdings, Inc.
20060393 | E.I. du Pont de Nemours and Company | Gilles Vicard | Neptune Environmental Technologies, Inc.
20060418 | BCT Coffee Acquisition Holdings, Inc | Pernod Ricard S.A | Dunkin' Brands, Inc.
20060426 | EarthLink, Inc | New Edge Holding Company | New Edge Holding Company.
TRANSACTIONS GRANTED EARLY TERMINATION—01/05/2006
20060357 | Buckeye Partners, L.P | BP plc | BP Pipelines (North America) Inc.
20060370 | MCP-TPI Holdings, LLC | EquaTerra, Inc | EquaTerra, Inc.
TRANSACTIONS GRANTED EARLY TERMINATION—01/06/2006
20060344 | Castlerigg International Limited | Wendy's International, Inc | Wendy's International, Inc.
20060348 | Trian Star Trust | Wendy's International, Inc | Wendy's International, Inc.
20060406 | Toyota Tsusho Corporation | Tomen Corporation | Tomen Corporation.
20060430 | J.P. Morgan Chase & Co | CareMore Medical Group | CareMore Medical Enterprises.

FOR FURTHER INFORMATION CONTACT: Sandra M. Peay, Contact Representative or Renee Hallman, Contact Representative.

Federal Trade Commission, Premerger Notification Office, Bureau of Competition, Room H-303, Washington, DC 20580, (202) 326-3100.

By direction of the Commission.
Donald S. Clark,
Secretary.

[FR Doc. 06-417 Filed 1-17-06; 8:45 am]

BILLING CODE 6750-01-M